DEPARTMENT OF THE TREASURY

Submission for OMB Review; Comment Request

July 24, 2009.

The Department of theTreasury will submit the following public information collection requirement(s) to OMB for review and clearance under the Paperwork Reduction Act of 1995, Public Law 104-13 on or after the publication date of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 28, 2009 to be assured of consideration.

Community Development Financial Institutions Fund

OMB Number: 1559-0014.

Type of Review: Revision.

Title: New Markets Tax Credit (NMTC) Program—Community Development Entity (CDE) Certification Application.

Form: CDFI-0019.

Description: The purpose of the NMTC Program is to provide an incentive to investors in the form of a tax credit, which is expected to stimulate investment in new private capital in low income communities. Applicants must be a CDE to apply for allocation.

Respondents: Businesses and other for-profit institutions.

Estimated Total Burden Hours: 1,200 hours.

Clearance Officer: Ashanti McCallum (202) 622-9018, Community Development Financial Institutions Fund, Department of the Treasury, 601 13th Street, NW., Suite 200 South, Washington, DC 20005.

OMB Reviewer: Nicolas Fraser (202) 395-5887, Office of Management and Budget, Room 10235, New Executive Office Building, Washington, DC 20503.

Celina Elphage,
Treasury PRA Clearance Officer.

[FR Doc. E9-18110 Filed 7-28-09; 8:45 am]

BILLING CODE 4810-70-P